DEPARTMENT OF TRANSPORTATION

Office of the Secretary

[Docket No. DOT-OST-2018-0190]

Aviation Consumer Protection Advisory Committee Matters; Meeting

AGENCY: Office of the Secretary (OST), Department of Transportation (DOT).

ACTION: Notice of public meeting.

SUMMARY: Public meetings of the Aviation Consumer Protection Advisory Committee (ACPAC).

DATES: The first meeting will be held from 9:30 a.m.-5:00 p.m. (ET), on December 2, 2021. The second meeting will be held from 9:30 a.m.-5:00 p.m. (ET), on March 21 and 22, 2022. Requests to attend the meeting must be received by March 11, 2022.

ADDRESSES: The meetings will be open to the public. The first meeting will be held virtually on Zoom's video platform. Please register for the first meeting at https://usdot.zoomgov.com/webinar/register/WN_6X7_jo0CTvia3JfU9XR82A. The second meeting is tentatively planned to be held in-person at the DOT headquarters building in Washington, DC and will be livestreamed. Attendance is open to the public, up to the room's capacity of 100 attendees. In the event the meeting is held virtually, information regarding how to attend the meeting virtually will be provided to individuals who registered to attend the in-person meeting. That information will also be made available to the public through another Federal Register notice.

A detailed agenda for each meeting will be available on the ACPAC website at https://www.transportation.gov/airconsumer/ACPAC in advance of each meeting, along with copies of the meeting minutes after the meeting.

FOR FURTHER INFORMATION CONTACT: Register for the first virtual meeting at https://usdot.zoomgov.com/webinar/register/WN_6X7_jo0CTvia3JfU9XR82A. To register for the second in-person meeting, please contact the Department by email at ACPAC@dot.gov. In the event the meeting is held virtually, information regarding how to attend the meeting virtually will be provided to individuals who registered to attend the in-person meeting. That information will also be made available to the public through another Federal Register notice. Attendance is open to the public subject to any technical and/or capacity limitations. For further information, contact Kimberly Graber, Deputy Assistant General Counsel, by telephone at (202) 366-1695 or by email at kimberly.graber@dot.gov.

SUPPLEMENTARY INFORMATION:

I. Background

The ACPAC was initially established as a Federal advisory committee by the Department as mandated by the FAA Modernization and Reform Act of 2012. The statutory termination date for the Committee has been extended several times, most recently by the FAA Reauthorization Act of 2018 (2018 FAA Act), to the current termination date of September 20, 2023. The ACPAC evaluates current aviation consumer protection programs and provides recommendations to the Secretary for improving them, as well as recommending any additional consumer protections that may be needed.

II. Purpose of the Meetings and Agendas

A. December 2, 2021 Meeting

Two topics will be discussed at the December 2, 2021 meeting—(1) Airline Ticket Refunds and (2) Information for Consumers Adversely Affected by Airline Delays or Cancellations. Regarding airline ticket refunds, the Department has consistently interpreted 49 U.S.C. 41712, which prohibits U.S. air carriers, foreign air carriers, and ticket agents from engaging in unfair practices in the sale of air transportation, to require carriers and ticket agents to provide requested refunds to passengers when a carrier cancels or significantly changes a flight to, from, or within the United States. The Department has not defined the terms “significant change” and “cancellation” in regulation or statute. The Department has announced a rulemaking ¹ that would clarify in regulation the Department's longstanding interpretation of the refund requirement. In addition, the rulemaking would also address protections for consumers who are unable to travel due to government restrictions. The ACPAC will consider potential definitions of the terms “significant change” and “cancellation” and the issue of protections for consumers who are unable to travel due to government restrictions or advisories.

¹ Airline Ticket Refunds, RIN 2105-AF04.

Regarding reporting the causes of airline delays and cancellations, Section 413 of the 2018 FAA Act directs the Department to review the categorization by reporting airlines of the causes of delays and cancellations, including, among other things, whether it is an unfair or deceptive practice for an air carrier to inform a passenger that a flight is delayed or cancelled due to weather alone when other factors are involved. Section 413 states that the Department may consult with the ACPAC to assist in conducting the review and providing recommendations on improving the quality and quantity of information provided to passengers adversely affected by a cancellation or delay. At the December 2, 2021 meeting, the Committee will consider the quality and quantity of information on causes of airline delays or cancellations provided to passengers adversely affected by an airline cancellation or delay, focusing on whether it is an unfair or deceptive practice for an air carrier to inform a passenger that a flight is delayed or cancelled due to weather alone when other factors are involved.

B. March 21 and 22, 2022 Meeting

Two topics, one continuing from the December meeting and one new topic, will be discussed at the March 21 and 22, 2022 meeting—(1) Airline Ticket Refunds (continued) and (2) Enhancing Consumer Access to Airline Flight Information. Regarding airline ticket refunds, the Committee will continue to consider this topic and will discuss the Department's Airline Ticket Refunds Notice of Proposed Rulemaking which the Department anticipates will be issued prior to the March 21 and 22, 2022 meeting.

Regarding the second topic, the Executive Order on Promoting Competition in the American Economy, issued on July 9, 2021 (E.O. 14036), directed the Department to take action to protect consumers and promote competition. Specifically, the Department is directed, among other things, to “promote enhanced transparency and consumer safeguards, as appropriate and consistent with applicable law, including through potential rulemaking, enforcement actions, or guidance documents, with the aims of: (1) Enhancing consumer access to airline flight information so that consumers can more easily find a broader set of available flights, including by new or lesser known airlines; and . . .” The ACPAC will consider the topic of enhancing access to airline flight information so that consumers can more easily find a broader set of available flights.

III. Public Participation

The meetings will be open to the public; however, attendance may be limited due to constraints of the virtual platform and/or physical meeting space. Register for the December 2, 2021 meeting at https://usdot.zoomgov.com/webinar/register/WN_6X7_jo0CTvia3JfU9XR82A. To register for the March 2022 meeting, please send an email to the Department as set forth in the FOR FURTHER INFORMATION CONTACT section. The Department is committed to providing equal access to this meeting for all participants. If you need alternative formats or services because of a disability, such as sign language interpreter or other ancillary aids, please contact the person listed in the FOR FURTHER INFORMATION CONTACT section.

Members of the public may also present written comments at any time. The docket number referenced above (DOT-OST-2018-0190) has been established for committee documents including any written comments that may be filed. At the discretion of the Chair or Designated Federal Officer of ACPAC, after completion of the planned agenda, individual members of the public may provide comments, time permitting. Any oral comments presented must be limited to the objectives of the Committee and will be limited to five (5) minutes per person.

Individual members of the public who wish to present oral comments must provide advance notice to the Department of Transportation contact noted above via email that they wish to present oral comments. Advance notice by individuals wishing to present oral comments at the December 2, 2021 must be provided to the Department no later than Monday, November 22, 2021. Advance notice by individuals wishing to present oral comments at the March 21 and 22, 2022 meeting must be provided to the Department no later than Friday, March 11, 2022.

Speakers are requested to submit a written copy of their prepared remarks for inclusion in the meeting records and for circulation to ACPAC members prior to the meetings. Individuals speaking at the December 2, 2021 meeting are requested to submit their remarks no later than Monday, November 29, 2021. Individuals speaking at the March 21 and 22, 2022 meeting are requested to submit their remarks no later than Tuesday, March 15, 2022. All prepared remarks submitted on time will be accepted and considered as part of the meeting's record.

IV. Viewing Documents

You may view documents mentioned in this notice at https://www.regulations.gov. After entering the docket number (DOT-OST-2018-0190), click the link to “Open Docket Folder” and choose the document to review.

Issued in Washington, DC, this 12th day of November 2021.
John E. Putnam,
Deputy General Counsel.

[FR Doc. 2021-25084 Filed 11-16-21; 8:45 am]

BILLING CODE 4910-9X-P